DEPARTMENT OF ENERGY

Federal Energy Regulatory Commission

[Docket No. ER94-1188-034, et al.]

LG&E Energy Marketing Inc., et al.; Electric Rate and Corporate Filings

November 26, 2004.

The following filings have been made with the Commission. The filings are listed in ascending order within each docket classification.

1. LG&E Energy Marketing Inc., Louisville Gas & Electric Company & Kentucky Utilities Company, WKE Station Two Inc., Western Kentucky Energy Corporation

[Docket Nos. ER94-1188-034, ER98-4540-003, ER99-1623-003, ER98-1278-009, ER98-1279-005]

Take notice that on November 19, 2002, LG&E Energy Marketing Inc., (LEM) Louisville Gas & Electric Company, Kentucky Utilities Company, WKE Station Two Inc., and Western Kentucky Energy Corporation tendered for filing an updated market power analysis in compliance Acadia Power Partners, LLC, 107 FERC ¶ 61,168 (2004).

Comment Date: 5 p.m. eastern time on December 10, 2004.

2. Puget Sound Energy, Inc.

[Docket No. ER99-845-006]

Take notice that on November 19, 2004, Puget Sound Energy, Inc. (Puget) filed with the Federal Energy Regulatory Commission a revised Market Based Rate Tariff to incorporate the Market Behavior Rules contained in the November 17, 2003 Order Amending Market-Based Tariffs and Authorizations, 105 FERC ¶ 61,218 (2003).

Comment Date: 5 p.m. eastern time on December 10, 2004.

3. Neptune Regional Transmission System, LLC

[Docket No. ER01-2099-003]

Take notice that on November 18, 2004 Neptune Regional Transmission, LLC (Neptune) submitted for filing a Report on Open Season in compliance with the Commission's order issued July 27, 2001 in Neptune Regional Transmission System, LLC, 96 FERC ¶ 61,147 (2001).

Comment Date: 5 p.m. eastern time on December 8, 2004.

4. Ameren Corp.

[Docket No. ER04-931-003]

Take notice that on November 19, 2004, the Midwest Independent Transmission System Operator, Inc. (Midwest ISO) amended its October 12, 2004 filing in Docket No. ER04-931-000.

Midwest ISO states that copies of the filing were served upon the service list compiled by the Secretary in Docket No. ER04-931-000.

Comment Date: 5 p.m. eastern time on December 10, 2004.

5. Reliant Energy Etiwanda, Inc.

[Docket No. ER05-138-001]

Take notice that on November 18, 2004, Reliant Energy Etiwanda. Inc. (Etiwanda) tendered for filing the Information Package summarizing information previously provided to the California Independent System Operator Corporation (CAISO) and other interested parties on November 1, 2004, pursuant to Schedule F, Article I, Part B of the Must-Run Service Agreement dated June 24, 2004, between Reliant Energy Etiwanda, Inc. and the California Independent System Operator Corporation. See Etiwanda's Rate Schedule FERC No. 2, Must-Run Service Agreement between Etiwanda and the CAISO, Original Sheet No. 175 (filed in Docket No. ER04-959-000, June 25, 2004).

Etiwanda states that this filing has been served upon the CAISO, the California Public Utilities Commission, the California Electricity Oversight Board and Southern California Edison Company.

Comment Date: 5 p.m. eastern time on December 16, 2004.

6. Reliant Energy Etiwanda, Inc.

[Docket No. ER05-138-002]

Take notice that on November 19, 2004, Reliant Energy Etiwanda, Inc. (Etiwanda) tendered for filing revised sheets for certain of the schedules to the Must-Run Service Agreement dated June 24, 2004, between Reliant Energy Etiwanda, Inc. and the California Independent System Operator Corporation (Must-Run Service Agreement), reflecting minor changes to the Must-Run Service Agreement schedules filed in the captioned docket on November 1, 2004, as well as a revised Information Package in accordance with Schedule F, Article I, Part B of the Must-Run Service Agreement. See Etiwanda's Rate Schedule FERC No. 2, Must-Run Service Agreement between Etiwanda and the CAISO, Original Sheet No. 175 (filed in Docket No. ER04-959-000, June 25, 2004). Etiwanda requests an effective date of January 1, 2005.

Etiwanda states that this filing has been served upon the California Independent System Operator Corporation, the California Public Utilities Commission, the California Electricity Oversight Board and Southern California Edison Company.

Comment Date: 5 p.m. eastern time on December 16, 2004.

7. Ohio Valley Electric Corporation

[Docket No. ER05-242-000]

Take notice that on November 19, 2004, Ohio Valley Electric Corporation (OVEC) tendered for filing revisions to its Open Access Transmission Tariff to incorporate the pro forma Large Generator Interconnection Procedures (LGIP) and Large Generator Interconnection Agreement (LGIA), without modification, in compliance with the Commission's Orders 2003 and 2003-A on Standardization of Generator Interconnection Agreements and Procedures. OVEC has requested an effective date of April 26, 2004.

OVEC states that a copy of this filing has been mailed to OVEC's jurisdictional customers and to each State public service commission that, to the best of OVEC's knowledge, has retail jurisdiction over such customers.

Comment Date: 5 p.m. eastern time on December 10, 2004.

8. Western Electricity Coordinating Council

[Docket No. ER05-243-000]

Take notice that on November 19, 2004, Western Electricity Coordinating Council (WECC) tendered for filing a request for approval of certain amendments to WECC Rate Schedule FERC No. 1, the WECC Bylaws. WECC states that the amendments reflect changes to the WECC Bylaws adopted by vote of the WECC Board of Directors on July 29, 2004, with additional minor modifications for consistency and formatting purposes. WECC requests an effective date of September 27, 2004.

Comment Date: 5 p.m. eastern time on December 10, 2004.

9. American Electric Power Service Corporation

[Docket No. ER05-244-000]

Take notice that on November 19, 2004, American Electric Power Service Corporation (AEPSC) submitted for filing a letter agreement that provides for AEPSC to begin engineering, equipment procurement and construction work on the interconnection facilities and network upgrades required to interconnect to the AEP transmission system the wind power project being developed by FPL Energy Cowboy Wind, LLC. AEPSC requests an effective date of November 5, 2004 for the agreement.

AEPSC served copies of the filing on FPL Energy Cowboy Wind, LLC.

Comment Date: 5 p.m. eastern yime on December 10, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3462 Filed 12-3-04; 8:45 am]

BILLING CODE 6717-01-P